DEPARTMENT OF ENERGY

Federal Energy Regulatory Commission

Combined Notice of Filings #1

Take notice that the Commission received the following exempt wholesale generator filings:

Docket Numbers: EG24-91-000.

Applicants: Monte Cristo Windpower, LLC.

Description: Monte Cristo Windpower, LLC submits Notice of Self-Certification of Exempt Wholesale Generator Status.

Filed Date: 1/22/24.

Accession Number: 20240122-5132.

Comment Date: 5 p.m. ET 2/12/24.

Take notice that the Commission received the following Complaints and Compliance filings in EL Dockets:

Docket Numbers: EL24-59-000.

Applicants: AV3 Energy, LLC.

Description: Petition for Enforcement Pursuant to (Section 210(H) of the Public Utility Regulatory Policies Act of 1978 or applicable Policy) of AV3 Energy, LLC.

Filed Date: 1/12/24.

Accession Number: 20240112-5203.

Comment Date: 5 p.m. ET 2/12/24.

Take notice that the Commission received the following electric rate filings:

Docket Numbers: ER23-2532-002.

Applicants: Southwest Power Pool, Inc.

Description: Compliance filing: Lea County—Compliance Filing in Response to December 22 Order to be effective 10/1/2023.

Filed Date: 1/22/24.

Accession Number: 20240122-5021.

Comment Date: 5 p.m. ET 2/12/24.

Docket Numbers: ER24-621-001.

Applicants: PJM Interconnection, L.L.C.

Description: Tariff Amendment: Amendment of FirstEnergy Reorganization Filing in Docket No. ER24-621 to be effective 12/31/9998.

Filed Date: 1/19/24.

Accession Number: 20240119-5186.

Comment Date: 5 p.m. ET 2/9/24.

Docket Numbers: ER24-688-001.

Applicants: Florida Power & Light Company.

Description: Tariff Amendment: FPL Errata Amendments to OATT NWFL System Formula Rate Template to be effective 2/15/2024.

Filed Date: 1/22/24.

Accession Number: 20240122-5113.

Comment Date: 5 p.m. ET 2/12/24.

Docket Numbers: ER24-962-000.

Applicants: Duke Energy Florida, LLC.

Description: 205(d) Rate Filing: DEF-Revision to RS No. 80 to be effective 5/1/2023.

Filed Date: 1/19/24.

Accession Number: 20240119-5168.

Comment Date: 5 p.m. ET 2/9/24.

Docket Numbers: ER24-963-000.

Applicants: New Mexico Wind, LLC.

Description: Baseline eTariff Filing: New Mexico Wind, LLC's Filing of Shared Facilities Agreement to be effective 3/20/2024.

Filed Date: 1/19/24.

Accession Number: 20240119-5184.

Comment Date: 5 p.m. ET 2/9/24.

Docket Numbers: ER24-964-000.

Applicants: Midcontinent Independent System Operator, Inc., Ameren Services Company.

Description: 205(d) Rate Filing: Midcontinent Independent System Operator, Inc. submits tariff filing per 35.13(a)(2)(iii: 2024-01-22_SA 4226 Ameren-Union Electric Company E&P (J1836) to be effective 1/23/2024.

Filed Date: 1/22/24.

Accession Number: 20240122-5029.

Comment Date: 5 p.m. ET 2/12/24.

Docket Numbers: ER24-965-000.

Applicants: Versant Power.

Description: Tariff Amendment: Notice of Cancellation of Interconnection Agreement—Penobscot to be effective 11/20/2023.

Filed Date: 1/22/24.

Accession Number: 20240122-5047.

Comment Date: 5 p.m. ET 2/12/24.

Docket Numbers: ER24-966-000.

Applicants: Eleven Mile Solar Center, LLC.

Description: Baseline eTariff Filing: Application for MBR Authorization with Waiver Requests to be effective 1/23/2024.

Filed Date: 1/22/24.

Accession Number: 20240122-5100.

Comment Date: 5 p.m. ET 2/12/24.

Docket Numbers: ER24-967-000.

Applicants: Orange and Rockland Utilities, Inc.

Description: Initial rate filing: O&R Attachment L WDS tariff 1-22-2024 to be effective 1/23/2024.

Filed Date: 1/22/24.

Accession Number: 20240122-5108.

Comment Date: 5 p.m. ET 2/12/24.

Docket Numbers: ER24-968-000.

Applicants: ReEnergy Black River LLC.

Description: Tariff Amendment: Notice of Cancellation to be effective 1/23/2024.

Filed Date: 1/22/24.

Accession Number: 20240122-5111.

Comment Date: 5 p.m. ET 2/12/24.

Docket Numbers: ER24-969-000.

Applicants: New York Independent System Operator, Inc.

Description: 205(d) Rate Filing: NYISO 205: Amended SGIA LIPA Riverhead Solar Farm SA2436 (CEII) to be effective 1/5/2024.

Filed Date: 1/22/24.

Accession Number: 20240122-5126.

Comment Date: 5 p.m. ET 2/12/24.

Docket Numbers: ER24-970-000.

Applicants: New York Independent System Operator, Inc.

Description: 205(d) Rate Filing: NYISO 205: LGIA LIPA Riverhead Solar 2 Project SA2740 (CEII) to be effective 1/5/2024.

Filed Date: 1/22/24.

Accession Number: 20240122-5129.

Comment Date: 5 p.m. ET 2/12/24.

Docket Numbers: ER24-971-000.

Applicants: American Transmission Systems, Incorporated, PJM Interconnection, L.L.C.

Description: 205(d) Rate Filing: American Transmission Systems, Incorporated submits tariff filing per 35.13(a)(2)(iii: ATSI submits IAs, SA Nos. 6931, 6932, 6933 re: FirstEnergy Reorganization to be effective 1/1/2024.

Filed Date: 1/22/24.

Accession Number: 20240122-5139.

Comment Date: 5 p.m. ET 2/12/24.

Docket Numbers: ER24-972-000.

Applicants: Desert Sunlight 250, LLC.

Description: 205(d) Rate Filing: Desert Sunlight 250, LLC Second A&R Co-Tenancy and Shared Facilities Agreement to be effective 1/23/2024.

Filed Date: 1/22/24.

Accession Number: 20240122-5144.

Comment Date: 5 p.m. ET 2/12/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 22, 2024.
Debbie-Anne A. Reese,
Acting Secretary.

[FR Doc. 2024-01642 Filed 1-26-24; 8:45 am]

BILLING CODE 6717-01-P